DEPARTMENT OF TRANSPORTATION

Maritime Administration

[Docket No. MARAD-2002-13067]

Requested Non-Availability Waiver

AGENCY: Maritime Administration, Department of Transportation (“MARAD”, “we”, “us” or “our”).

ACTION: Notice of requested administrative waiver of the Cargo Preference Act of 1954 to allow cargo carriage by a non-qualified U.S.-flag vessel in the absence of available qualified U.S.-flag vessels, with request for comments.

SUMMARY: The Cargo Preference Act of 1954, Pub. L. 83-664, 46 App. U.S.C. 1241(b), requires that at least 50 percent of Government-sponsored cargoes (75 percent with regard to certain agricultural exports) transported on ocean-going vessels be transported on certain U.S.-flag vessels when such vessels are available at a fair and reasonable rate for U.S.-flag commercial vessels. The statute excludes from eligibility to carry such cargoes foreign built or foreign rebuilt vessels or vessels previously registered under a foreign flag, unless the vessel has been registered under the United States flag for at least three years. Implicit in the statute is that we may waive the preference for qualified U.S.-flag vessels when they are not available. Here, we are inviting comments on how we should respond to a specific request to waive the Cargo Preference Act to allow U.S.-flag vessels which have not met the three year wait requirement to carry preference cargo when no fully qualified U.S.-flag vessel is available.

DATES: Submit comments on or before September 12, 2002.

ADDRESSES: Comments should refer to docket number MARAD-2002-13067. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Thomas W. Harrelson, Director, Office of Cargo Preference, MAR-580 Room 8118, 400 7th St., SW Washington, DC 20590. Telephone no. (202) 366-5515.

SUPPLEMENTARY INFORMATION: The Government of Israel, Ministry of Defense (GOI-MOD) purchases jet fuel from the Defense Security Cooperative Agency (DSCA) under the Foreign Military Sales Program. The cargo is subject to the Cargo Preference Act of 1954, but longstanding U.S. Government policy set forth in the DSCA manual requires 100 percent U.S.-flag carriage. GOI-MOD has expressed a concern that qualified U.S.-flag vessels may not be available in 2004 and beyond, due to many U.S.-flag tankers being retired under the Oil Pollution Act of 1990. Their efforts to conclude a multi-year contract with a U.S.-flag carrier were frustrated for this very reason earlier this year.

If foreign built tankers are entered into U.S. registry, they would be ineligible for three years to carry DSCA cargoes. However, the statute permits foreign vessels to carry such cargoes if no qualified U.S.-flag vessels are available. GOI-MOD is proposing that when qualified U.S.-flag vessels are not available, that instead of granting a waiver for a foreign vessel to carry the cargo, that we grant a waiver so that non-qualified U.S.-flag vessels can carry the cargo. From the national policy perspective of fostering a sufficient U.S. merchant marine employing U.S. citizen crew members, it would be preferable for U.S. sponsored cargoes to be carried by a non-qualified U.S.-flag vessel rather than a foreign-flag vessel.

By this notice, we are seeking public views on this proposal. Comments should refer to the docket number of this notice in order for us to properly consider the comments. After consideration of such views, we will decide the matter and publish our decision in this docket.

Dated: August 8, 2002.
By order of the Maritime Administrator.
Joel C. Richard,
Secretary, Maritime Administration.

[FR Doc. 02-20487 Filed 8-12-02; 8:45 am]

BILLING CODE 4910-81-P